CONSUMER FINANCIAL PROTECTION BUREAU

12 CFR Ch. X

Semiannual Regulatory Agenda

AGENCY: Consumer Financial Protection Bureau.

ACTION: Semiannual Regulatory Agenda.

SUMMARY: The Consumer Financial Protection Bureau (CFPB) is publishing this agenda as part of the Fall 2023 Unified Agenda of Federal Regulatory and Deregulatory Actions. The CFPB reasonably anticipates having the regulatory matters identified below under consideration during the period from November 2023 to October 2024. The next agenda will be published in Spring 2024 and will update this agenda through Spring 2025. Publication of this agenda is in accordance with the Regulatory Flexibility Act (5U.S.C. 601 et seq.).

DATES: This information is current as of August 17, 2023.

ADDRESSES: Consumer Financial Protection Bureau, 1700 G Street NW, Washington, DC 20552.

FOR FURTHER INFORMATION CONTACT: A staff contact is included for each regulatory item listed herein. If you require this document in an alternative electronic format, please contact CFPB_Accessibility@cfpb.gov.

SUPPLEMENTARY INFORMATION: The CFPB is publishing its Fall 2023 Agenda as part of the Fall 2023 Unified Agenda of Federal Regulatory and Deregulatory Actions, which is coordinated by the Office of Management and Budget (OMB) under Executive Order 12866. The agenda lists the regulatory matters that the CFPB reasonably anticipates, as of August 17, 2023, that it will have under consideration during the period from November 1, 2023, to October 31, 2024, as described further below.¹ The complete Unified Agenda is available to the public at the following website: https://www.reginfo.gov.

¹ The listing does not include certain routine, frequent, or administrative matters. The CFPB is reporting information for this Unified Agenda in a manner consistent with past practice.

Consistent with procedures established by OMB's Office of Information and Regulatory Affairs,² the CFPB's active agenda is divided into five sections: pre-rule stage; proposed rule stage; final rule stage; long-term actions, completed actions. Generally, the pre-rule through final rule stages sections list items the CFPB plans to issue within the next 12 months. The long-term actions are listed for informational purposes if a regulatory action is anticipated beyond that one-year time frame. Completed actions are those that have been published as final or are withdrawn.

² See https://www.reginfo.gov/public/jsp/eAgenda/UA_About.myjsp.

Rohit Chopra,
Director, Consumer Financial Protection Bureau.

Consumer Financial Protection Bureau—Proposed Rule Stage
Sequence No. | Title | Regulation Identifier No.
510 | Required Rulemaking on Personal Financial Data Rights | 3170-AA78

Consumer Financial Protection Bureau—Final Rule Stage
Sequence No. | Title | Regulation Identifier No.
511 | Amendments to FIRREA Concerning Automated Valuation Models | 3170-AA57

CONSUMER FINANCIAL PROTECTION BUREAU (CFPB)

Proposed Rule Stage

510. Required Rulemaking on Personal Financial Data Rights [3170-AA78]

Legal Authority: 12 U.S.C. 5533

Abstract: Section 1033 of the Consumer Financial Protection Act (CFPA) provides that, subject to rules prescribed by the CFPB, a covered entity (for example, a bank) must make available to consumers, upon request, transaction data and other information concerning a consumer financial product or service that the consumer obtains from the covered entity. Section 1033 also states that the CFPB must prescribe by rule standards to promote the development and use of standardized formats for information made available to consumers. In November 2020, the CFPB published an Advance Notice of Proposed Rulemaking (ANPRM) concerning implementation of section 1033, accepting comments until February 2021. In October 2022, the CFPB released materials in advance of convening a panel under the Small Business Regulatory Enforcement Fairness Act (SBREFA), in conjunction with the Office of Management and Budget and the Small Business Administration's Chief Counsel for Advocacy. The SBREFA panel was convened in February 2023 and received feedback from representatives of small entities on the impacts the rules the CFPB is considering to implement section 1033 would have on small entities likely to be directly affected by the rulemaking. The panel's report was completed in March 2023. The CFPB released a Notice of Proposed Rulemaking on October 19, 2023.

Timetable:

Action | Date | FR Cite
Request for Information | 11/22/16 | 81 FR 83806
Principles Statement | 10/18/17
ANPRM | 11/06/20 | 85 FR 71003
ANPRM Comment Period End | 02/04/21
SBREFA Outline | 10/27/22
SBREFA Report | 03/30/23
NPRM | 10/31/23 | 88 FR 74796
NPRM Comment Period End | 12/29/23

Regulatory Flexibility Analysis Required: Yes.

Agency Contact: Michael Scherzer, Office of Regulations, Consumer Financial Protection Bureau, Washington, DC 20552, Phone: 202 435-7700.

RIN: 3170-AA78

CONSUMER FINANCIAL PROTECTION BUREAU (CFPB)

Final Rule Stage

511. Amendments to FIRREA Concerning Automated Valuation Models [3170-AA57]

Legal Authority: 12 U.S.C. 3354

Abstract: The CFPB is participating in an interagency rulemaking process with the Board of Governors of the Federal Reserve System, the Office of the Comptroller of the Currency, the Federal Deposit Insurance Corporation, the National Credit Union Administration, and the Federal Housing Finance Agency (collectively, the Agencies) to develop regulations to implement the amendments made by the Consumer Financial Protection Act (CFPA) to the Financial Institutions Reform, Recovery, and Enforcement Act of 1989 (FIRREA) concerning automated valuation models. The FIRREA amendments require implementing regulations for quality control standards for automated valuation models (AVMs). In February 2022, the CFPB initiated the process under the Small Business Regulatory Enforcement Fairness Act of 1996 (SBREFA) for this rulemaking and released an outline of proposals and alternatives under consideration for the SBREFA panel, made up of representatives of small businesses that might be affected by the rulemaking. The CFPB released a final SBREFA report on May 13, 2022. The Agencies issued a proposed rule to implement the CFPA's AVM amendments to FIRREA in June 2023.

Timetable:

Action | Date | FR Cite
SBREFA Outline | 02/23/22
SBREFA Report | 05/13/22
NPRM | 06/21/23 | 88 FR 40638
NPRM Comment Period End | 08/21/23
Final Rule | 06/00/24

Regulatory Flexibility Analysis Required: Yes.

Agency Contact: Pedro De Oliveira, Office of Regulations, Consumer Financial Protection Bureau, Washington, DC 20552, Phone: 202 435-7700.

RIN: 3170-AA57

[FR Doc. 2024-00462 Filed 2-8-24; 8:45 am]

BILLING CODE 4810-AM-P